DEPARTMENT OF THE INTERIOR

Bureau of Land Management

[OR-958-1430-FN; HAG 04-0204; WAOR-19795]

Opening of Public Land Subject to Section 24 of the Federal Power Act; Washington

AGENCY: Bureau of Land Management, Interior.

ACTION: Notice.

SUMMARY: This notice opens to disposal by land exchange approximately 4.5 acres of public land, withdrawn for Power Project No. 2149 by Federal Power Commission Order dated July 12, 1962, subject to the provisions of Section 24 of the Federal Power Act.

EFFECTIVE DATE: August 13, 2004.

FOR FURTHER INFORMATION CONTACT: Ralph Kuhns, BLM Oregon/Washington State Office, PO Box 2965, Portland, Oregon 97208, 503-808-6163.

SUPPLEMENTARY INFORMATION: The Federal Energy Regulatory Commission has determined that the power value of the public land described below will not be injured or destroyed for the purposes of power development by its conveyance to the licensee for Power Project No. 2149, subject to and with the reservation of the right of the United States or its licensee to enter upon, occupy and use any or all of the land for power purposes. Any use not authorized by the license for the hydropower project or by the Federal Energy Regulatory Commission will continue to be prohibited.

By virtue of the authority vested in the Secretary of the Interior by the Act of June 10, 1920, Section 24, as amended, 16 U.S.C. 818, and pursuant to the determination by the Federal Energy Regulatory Commission in DVWA-288, dated April 1, 2004, it is ordered as follows:

At 8:30 a.m. on August 13, 2004, the following described land, withdrawn by the Federal Power Commission Order dated July 12, 1962, for Power Project No. 2149, is hereby made available for exchange under Section 206 of the Federal Land Policy and Management Act of 1976, 43 U.S.C. 1716, subject to the provisions of Section 24 of the Federal Power Act:

Willamette Meridian

T. 30 N., R. 24 E.,

Sec. 13, lot 2 (that portion within the boundary of Power Project No. 2149).

T. 30 N., R. 25 E.,

Sec. 18, lots 1 and 2 (that portion within the boundary of Power Project No. 2149).

The area described contains approximately 4.5 acres in Okanogan County.

Dated: July 14, 2004.
Sherrie L. Reid,
Acting Chief, Branch of Realty and Record Services.

[FR Doc. 04-18569 Filed 8-12-04; 8:45 am]

BILLING CODE 4310-33-P